SOCIAL SECURITY ADMINISTRATION

President's Commission To Strengthen Social Security

AGENCY: Social Security Administration (SSA).

ACTION: Announcement of meeting location.

DATES: December 11, 2001 10:00 a.m.-6:00 p.m.

ADDRESSES: Park Hyatt Ballroom, Park Hyatt Washington, 24th at M Street NW., Washington, DC 20037, (202) 789-1234.

SUPPLEMENTARY INFORMATION: The Federal Register notice announcing the December 11 meeting of the President's Commission to Strengthen Social Security did not include a meeting location. The purpose of this announcement is to provide the meeting location.

The Commission will meet commencing Tuesday, December 11, at 10:00 a.m. and ending at 6:00 p.m., with a break for lunch between 12:30 p.m. and 1:30 p.m. The Commission will be discussing its draft Final Report.

Dated: November 30, 2001.
Michael A. Anzick,
Designated Federal Officer.

[FR Doc. 01-30244 Filed 12-4-01; 8:45 am]

BILLING CODE 4191-02-P